DEPARTMENT OF THE INTERIOR

Office of the Secretary

[223D0102DM, DS6CS00000, DLSN00000.000000. DX6CS25; OMB Control Number 1093-0012]

Agency Information Collection Activities; Submission to the Office of Management and Budget for Review and Approval; Application Requirement for States To Apply for Orphaned Well Site Plugging, Remediation, and Restoration Grant Consideration

AGENCY: Office of the Secretary, Interior.

ACTION: Notice of information collection; request for comment.

SUMMARY: In accordance with the Paperwork Reduction Act of 1995, we, the Office of the Secretary, Office of Budget are proposing to renew an information collection.

DATES: Interested persons are invited to submit comments on or before July 5, 2022.

ADDRESSES: Written comments and recommendations for the proposed information collection should be sent within 30 days of publication of this notice to www.reginfo.gov/public/do/PRAMain. Find this particular information collection by selecting “Currently under Review—Open for Public Comments” or by using the search function. Please provide a copy of your comments to Departmental Information Collection Clearance Officer, U.S. Department of the Interior, 1849 C Street NW, Washington, DC 20240; or by email to DOI-PRA@ios.doi.gov. Please reference OMB Control Number 1093-0012 in the subject line of your comments.

FOR FURTHER INFORMATION CONTACT: To request additional information about this Information Collection Request (ICR), contact William B. Lodder Jr., Team Leader, Environmental Cleanup and Liability Management Team, Office of Environmental Policy and Compliance (OEPC), U.S. Department of the Interior, 1849 C Street NW, Washington, DC 20240; by telephone at 202-208-6128; or by email to orphanedwells@ios.doi.gov. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on Wednesday, March 30, 2022 (87 FR 18385). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Public Law 117-58, Section 40601, “Orphaned Well Site Plugging, Remediation, and Restoration” contained in the Bipartisan Infrastructure Law (BIL) (November 15, 2021) amends section 349 of the Energy Policy Act of 2005 (42 U.S.C. 15907) and designates the U.S. Department of the Interior (Interior) as the key agency responsible for implementing a grant program for applicable government entities to plug, remediate, and reclaim orphaned wells on lands covered by the legislation. The associated investments, as part of the new grant programs, will rebuild America's critical infrastructure, tackle the climate crisis, advance environmental justice, and drive the creation of good-paying union jobs.

Interior will issue financial assistance through grant and cooperative agreement awards to state governments and Indian tribal governments under Assistance Listing (CFDA) program 15.018 Energy Community Revitalization Program (ECRP). The authority is the Infrastructure Investment and Jobs Act (Pub. L. 117-58), Title VI, Section 40601.

The program is separated into the following parts:

1. Initial Grants to States

2 Formula Grants to States

3. Performance Grants to States

4. Tribal Grants

The BIL requires Interior to collect information necessary to ensure that grant funds authorized by this legislation are used in accordance with the BIL and Federal assistance requirements under 2 CFR 200. Information collected by Interior's Office of Environmental Policy and Compliance (OEPC) as part of the consolidated workplan is described below. Interior seeks OMB approval to collect this information to manage and monitor grant awards to comply with the BIL.

To implement grant funds authorized by the BIL, the OEPC proposes to collect the following information associated with the administration of grants related to “Orphaned Well Site Plugging, Remediation, and Restoration” under Section 40601:

• Consolidated Workplans—We ask for the following information as part of the consolidated workplan:

—(a) The applicant's process for determining that a well has been orphaned, including what efforts will be made to redeem financial assurances or otherwise recoup remediation costs from any parties responsible;

—(b) A description of the applicant's plugging standards, including the witnessing requirements (qualifications of witness, documentation);

—(c) Details of the applicant's prioritization process for evaluating and ranking orphan wells and associated surface reclamation, including criteria, weighting, and how such prioritization will address resource and financial risk, public health and safety, potential environmental harm (including methane emissions where applicable), and other land use priorities;

—(d) If no prioritization process currently exists, the applicant should describe its plans to develop and implement a prioritization process;

—(e) Details of how the applicant will identify and address any disproportionate burden of adverse human health or environmental effects of orphaned wells on disadvantaged communities, including communities of color, low-income communities, and Tribal and indigenous communities;

—(f) The methodology to be used by the applicant to measure and track methane and other gases associated with orphaned wells, including how the applicant will confirm the effectiveness of plugging activities in reducing or eliminating such emissions;

—(g) The methodology to be used by the applicant to measure and track contamination of groundwater and surface water associated with orphaned wells, including how the applicant will confirm the effectiveness of plugging activities in reducing or eliminating such contamination;

—(h) The methodology to be used to decommission or remove associated pipelines, facilities, and infrastructure and to remediate soil and restore habitat that has been degraded due to the presence of orphaned wells and associated infrastructure;

—(i) Methods the applicant will use to solicit recommendations from local officials and the public regarding the prioritization of well plugging and site remediation activities, and any other processes the applicant will use to solicit feedback on the program from local officials and the public;

—(j) Latitude/Longitude and all other data elements and associated units of measure as indicated in the Orphaned Well Data Reporting Template (see guidance provided within the IC in ROCIS);

—(k) How the applicant will use funding to locate currently undocumented orphaned wells;

—(l) Plans the applicant has to engage third-parties in partnerships around well plugging and site remediation, or any existing similar partnerships the applicant currently belongs to;

—(m) Training programs, registered apprenticeships, and local and economic hire agreements for workers the applicant intends to conduct or fund in well plugging or site remediation;

—(n) Plans the applicant has to support opportunities for all workers, including workers underrepresented in well plugging or site remediation, to be trained and placed in good-paying jobs directly related to the project;

—(o) Plans the applicant has to incorporate equity for underserved communities into their planning, including supporting the expansion of high-quality, good paying jobs through workforce development programs and incorporating workforce strategy into project development;

—(p) Procedures the applicant will use to coordinate with Federal or Tribal agencies to determine whether efficiencies may exist by combining field survey, plugging, or surface remediation work across private, State, Federal, and Tribal land;

—(q) The applicant's authorities to enter private property, or an applicant's procedures to obtain landowner consent to enter private property, in the event that any wells to be plugged will be accessed from privately owned surface;

—(r) A work schedule covering the period of performance of the Initial grant; and

—(s) If applicable, a federally approved Indirect Cost Rate Agreement or statement regarding applicant's intention to negotiate or utilize the de minimis rate.

• Grant Applications—The OEPC proposes to collect the following additional elements from applicants:

—Standard forms (SF) from the SF-424 Series: Applicants must submit the following SF-424 series of forms:

○ SF-424, Application for Federal Assistance;

○ SF-424A, Budget Information for Non-Construction Programs or SF-424C Budget Information for Construction Program;

○ SF-424B, Assurances for Non-Construction Programs) or SF-424D Assurances for Construction Programs);

○ SF-428 Tangible Personal Property Report; and the

○ SF-LLL, Disclosure of Lobbying Activities, when applicable)

—Indirect Cost Statement: If requesting reimbursement for indirect costs, all applicants must include in their application a statement regarding how they anticipate charging indirect costs.

—Negotiated Indirect Cost Rate Agreement (NICRA): When applicable, a copy of the applicant's current Federal Agency-approved Negotiated Indirect Cost Rate Agreement is required.

—Single Audit Reporting Statement: All U.S. governmental entities and non-profit applicants must submit a statement regarding their single audit reporting status.

—Conflict of Interest Disclosures: Applicants must notify the Service in writing of any actual or potential conflicts of interest known at the time of application or that may arise during the life of this award, in the event the Service makes an award to the entity.

—Certification Statement: Applicants for the Initial Grant part of this program must provide a signed State Certification statement consistent with Section 40601(c)(3)(A)(ii)(III) or 40601(c)(3)(A)(i)(II) of the BIL.

• Amendments—For many budget and program plan revisions, 2 CFR 200 requires recipients submit revision requests to the Federal awarding agency in writing for prior approval. Interior reviews such requests received to determine the eligibility and allowability of new or revised activities and costs and approves certain items of cost.

• Reporting/Recordkeeping Requirements:

—Financial Reports: Recipients are required to submit all financial reports on the Standard Form 425, Federal Financial Report. All recipients must submit financial reports in accordance with 2 CFR 200. The frequency of financial reporting may vary between the different parts of this program. However, all recipients will be required to submit reports at least annually and no more frequently than quarterly. We may require interim reports more frequently than quarterly as a specific condition of award in unusual circumstances, for example where more frequent reporting is necessary for the effective monitoring of the Federal award or could significantly affect program outcomes, and preferably in coordination with performance reporting.

—Performance Reports: Recipients must submit performance reports in accordance with 2 CFR 200. We use performance reports as a tool to ensure that the recipient is accomplishing the work on schedule and to identify any problems that the awardee may be experiencing in accomplishing that work. This information is necessary for the Service to track accomplishments and performance-related data. Performance reports must include:

○ A comparison of actual accomplishments to the goals and objectives established for the reporting period, the results/findings, or both;

○ If the goals and objectives were not met, the reasons why, including analysis and explanation of cost overruns or high unit costs compared to the benefit received to reach an objective;

○ Performance trend data and analysis to be used by the awarding program to monitor and assess recipient and Federal awarding program performance; and

○ Consolidated long-term work plan and accomplishments updates, when award is part of a large scale or long-term effort funded under multiple awards over time.

The frequency of performance reporting may vary between the different parts of this program. However, all recipients will be required to submit reports at least annually and no more frequently than quarterly. We may require interim reports more frequently than quarterly as a specific condition of award in unusual circumstances, for example where more frequent reporting is necessary for the effective monitoring of the Federal award or could significantly affect program outcomes.

—Final 15-month Report: As required in the BIL, State recipients under the Initial Grants part of the program must submit a report no later than 15 months after the date on which the State receives the funds, describing the means by which the State used the funds in accordance with its application and certification, and including the reporting parameters described in this guidance.

—Recordkeeping Requirements: Recipients must retain financial records, supporting documents, statistical records, and all other records pertinent to a Federal award per 2 CFR 200 requirements.

Title of Collection: Application Requirement for States to Apply for Orphaned Well Site Plugging, Remediation, and Restoration Grant Consideration.

OMB Control Number: 1093-0012.

Form Number: None.

Type of Review: Extension of a currently approved collection.

Respondents/Affected Public: 92/(27 State and 65 tribal governments).

Total Estimated Number of Annual Respondents: 470.

Total Estimated Number of Annual Responses: 470.

Estimated Completion Time per Response: Varies from 3 hours to 40 hours, depending on activity.

Total Estimated Number of Annual Burden Hours: 10,702 Hours.

Respondent's Obligation: Required to obtain or retain a benefit.

Frequency of Collection: On occasion.

Total Estimated Annual Nonhour Burden Cost: None.

Requirement | Average number of annual respondents | Average number of responses each | Average number of annual responses | Average completion time per response (hours) | Estimated annual burden hours
Consolidated Workplan
Government | 92 | 1 | 92 | 4 | 368
Applications
Government | 92 | 1 | 92 | 40 | 3,680
Amendments
Government | 10 | 1 | 10 | 3 | 30
Financial Reports
Reporting | 92 | 1 | 92 | 6 | 552
Recordkeeping |  |  |  | 2 | 184
Performance Reports
Reporting | 92 | 1 | 92 | 24 | 2,208
Recordkeeping |  |  |  | 8 | 736
Final 15-month Reports
Reporting | 92 | 1 | 92 | 24 | 2,208
Recordkeeping |  |  |  | 8 | 736
Totals: | 470 |  | 470 |  | 10,702

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2022-11934 Filed 6-2-22; 8:45 am]

BILLING CODE 4334-63-P